DEPARTMENT OF THE TREASURY

Office of the Comptroller of the Currency

[OCC Charter Number 702353]

Liberty Savings Bank, FSB, Whiting, Indiana; Approval of Voluntary Supervisory Conversion Application

Notice is hereby given that on June 10, 2015, the Office of the Comptroller of the Currency (OCC) approved the application of Liberty Savings Bank, FSB, Whiting, Indiana, to convert from a Federally chartered mutual savings association to a Federally chartered stock savings association. Copies of the application are available for inspection on the OCC Web site at the FOIA Electronic Reading Room https://foia-pal.occ.gov/palMain.aspx. If you have any questions, please call OCC Licensing Activities at (202) 649-6260.

Dated: July 1, 2015.
By the Office of the Comptroller of the Currency.
Stephen A. Lybarger,
Deputy Comptroller for Licensing.

[FR Doc. 2015-16654 Filed 7-7-15; 8:45 am]

BILLING CODE 4810-33-P